GENERAL SERVICES ADMINISTRATION

Privacy Act of 1974: Republication of a System of Records Notice

AGENCY: General Services Administration.

ACTION: Notice of an updated system of records subject to the Privacy Act of 1974.

SUMMARY: The General Services Administration (GSA) is providing notice of a revision to the record system, Purchase Card Program (GSA/PPFM4-10). The system provides control over expenditure of funds through the use of Federal Government purchase cards. The revision includes a new category of records, credit data, as required by the Consolidated Appropriations Act, 2005 (P.L. 108-447) and Office of Management and Budget guidance. The notice also updates authorities, includes minor editing for clarification purposes, and updates routine uses.

EFFECTIVE DATE: The system of records will become effective without further notice on November 16, 2005 unless comments received on or before that date result in a contrary determination.

FOR FURTHER INFORMATION CONTACT GSA Privacy Act Officer. Telephone (202) 501-1452. Address: Office of the Chief People Officer (C), General Services Administration, 1800 F Street NW, Washington, DC 20405.

Dated: October 7, 2005.
June V. Huber,
Director, Office of Information Management

GSA/PPFM-10

System Name:

Purchase Card Program, GSA/PPFM-10

System location:

System records are maintained by the Office of Finance, General Services Administration (GSA), at 1800 F Street, NW, Washington DC 20405, and by designated purchase card coordinators' offices in GSA regions. Contact the System Manager for additional information.

Persons covered by the system:

The system includes employees of GSA, and of independent offices and commissions serviced by GSA, who qualify to use Federal Government charge cards for making authorized purchases for official business.

Type of record system:

The system provides control over expenditure of funds through the use of Federal Government purchase cards. System records include:

a. Personal information on charge card users, including names, home or business telephone numbers and addresses, Social Security Numbers, date of birth, employment information, and credit data in the form of credit scores (examples of credit scores are FICO, an acronym for Fair Isaac Corporation, a Beacon score, etc.) or commercial and agency investigative reports showing debtors' asset, liabilities, income, expenses, bankruptcy petitions, history of wage garnishments, repossessed property, tax liens, legal judgments on debts owed, and financial delinquencies; and

b. Account processing and management information, including charge card transactions, contractor monthly reports showing charges to individual account numbers, account balances, and other data needed to authorize, account for, and pay authorized purchase card expenses.

Authority for maintaining the system:

Federal Acquisition Regulation (FAR), Part 13, 48 CFR part 13, Public Law 93-579 section 7(b), and Section 639 of the Consolidated Appropriations Act, 2005 (P.L. 108-447).

Purpose:

To establish and maintain a system for operating, controlling, and managing the purchase card program involving commercial purchases by authorized Government employees.

Routine uses of the record system, including types of users and their purposes in using the system:

System information may be accessed and used by authorized GSA employees or contractors to conduct official duties associated with the management and operation of the purchase card program. Information from this system also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the GSA Office of Finance for debt collection purposes (see GSA/PPFM-7).

Policies and practices for storing, retrieving, accessing, retaining, and disposing of records in the system:

Storage:

Information may be collected on paper or electronically and may be stored on paper or on electronic media, as appropriate.

Retrieval:

Records are retrievable by a personal identifier or by other appropriate type of designation approved by GSA.

Safeguards:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

Disposal:

Disposition of records is according to the National Archives and Records Administration (NARA) guidelines, as set forth in the handbook, GSA Records Maintenance and Disposition System (OAD P 1820.2A and CIO P 1820.1), and authorized GSA records schedules.

System manager and address:

Director, Financial Initiative Division (BCD), Office of Finance, Office of the Chief Financial Officer, General Services Administration, 1800 F Street, NW, Washington DC, 20405.

Notification procedure:

A Privacy Act Statement on the purchase card data collection form notifies individuals of the purpose and uses of the information they provide. Employees may obtain information about whether they are a part of this system of records from the system manager at the above address.

Record review procedures:

Requests from individuals for access to their records should be addressed to the system manager.

Procedure to contest a record:

GSA rules for access to systems of records, contesting the contents of systems of records, and appealing initial determinations are published at 41 CFR Part 105-64.

Record sources:

Information is obtained from individuals submitting charge card applications, monthly contractor reports, purchase records, managers, other agencies, non-Federal sources such as private firms, and other agency systems containing information pertaining to the purchase card program.

[FR Doc. 05-20689 Filed 10-14-05; 8:45 am]

BILLING CODE 6820-34-S